DEPARTMENT OF ENERGY

10 CFR Part 431

[Docket No. EERE-2009-BT-STD-0018]

RIN 1904-AC00

Energy Conservation Program: Energy Conservation Standards for Metal Halide Lamp Fixtures: Public Meeting and Availability of the Framework Document

AGENCY: Office of Energy Efficiency and Renewable Energy, Department of Energy.

ACTION: Notice of extension of public comment period.

SUMMARY: In the December 30, 2009, issue of the Federal Register, the U.S. Department of Energy initiated the rulemaking and data collection process to establish amended energy conservation standards for certain metal halide lamp fixtures. This document announces that the period for submitting comments on the Framework Document is extended to February 5, 2010.

DATES: DOE will accept comments, data, and information regarding the Framework Document received by February 5, 2010.

ADDRESSES: Any comments submitted must identify the Framework Document for energy conservation standards for metal halide lamp fixtures and provide docket number EERE-2009-BT-STD-0018 and/or RIN number 1904-AC00. Comments may be submitted using any of the following methods:

• Federal eRulemaking Portal: http://www.regulations.gov. Follow the instructions for submitting comments.

• E-mail: MHLF-2009-STD-0018@ee.doe.gov. Include docket number EERE-2009-BT-STD-0018 and/or RIN 1904-AC00 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room.

FOR FURTHER INFORMATION CONTACT: Ms. Linda Graves, U.S. Department of Energy, Office of Energy Efficiency and Renewable Energy, Building Technologies, EE-2J, 1000 Independence Avenue, SW., Washington, DC 20585-0121. Phone: (202) 586-1851. E-mail: linda.graves@ee.doe.gov.

Mr. Eric Stas, U.S. Department of Energy, Office of General Counsel, GC-71, 1000 Independence Avenue, SW., Washington, DC 20585-0121. Phone: (202) 586-5827. E-mail: eric.stas@hq.doe.gov.

SUPPLEMENTARY INFORMATION: On December 30, 2009, DOE published a notice of public meeting and availability of the Framework Document in the Federal Register (74 FR 69036) for energy conservation standards for metal halide lamp fixtures. The notice provided for the submission of comments by January 29, 2010, and comments were also accepted at a public meeting held on January 26, 2010. DOE received a request for a brief extension of the comment period from a number of commenters who felt that the comment period, which occurred over the New Years holiday in late December 2009-January 2010, was too short for them to adequately review the document and submit comments. DOE has determined that a brief extension is appropriate to allow all interested parties sufficient time to comment. DOE will consider any comments received by February 5, 2010, and deems any comments received between publication of the notice of public meeting and availability of the framework document and February 5, 2010, to be timely submitted.

Further Information on Submitting Comments

Under Title 10 of the Code of Federal Regulations (10 CFR) Part 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) A description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on January 29, 2010.
Cathy Zoi,
Assistant Secretary, Energy Efficiency and Renewable Energy.

[FR Doc. 2010-2295 Filed 2-2-10; 8:45 am]

BILLING CODE 6450-01-P